DEPARTMENT OF DEFENSE

Department of the Air Force

Notice of Intent To Grant an Exclusive Patent License

AGENCY: Department of the Air Force, Department of Defense.

ACTION: Notice of intent.

SUMMARY: Pursuant to the provisions of part 404 of title 37, Code of Federal Regulations, which implements Public Law 96-517, as amended; the Department of the Air Force announces its intention to grant The Regents of the University of Michigan, a land-grant educational institution of the State of Michigan, having a place of business at 503 S. State St., Ann Arbor, MI 48109.

DATES: The Air Force intends to grant a license for the patent and pending applications unless a written objection is received within fifteen (15) calendar days from the date of publication of this Notice.

ADDRESSES: Written objection should be sent to: Air Force Materiel Command Law Office, AFMCLO/JAZ, 2240 B Street, Rm. 101, Wright-Patterson AFB, OH 45433-7109; Facsimile: (937) 255-3733.

FOR FURTHER INFORMATION CONTACT: Air Force Materiel Command Law Office, AFMCLO/JAZ, 2240 B Street, Rm. 101, Wright-Patterson AFB, OH 45433-7109; Facsimile: (937) 255-3733.

SUPPLEMENTARY INFORMATION: An exclusive license in any right, title, and interest of the Air Force in: International Application No. PCT/US2014/059727, entitled, “APPARATUS AND METHODS FOR ENERGY EFFICIENT SEPARATIONS INCLUDING REFINING OF FUEL PRODUCTS,” by Reams et al., and filed on October 8, 2014.

Henry Williams,
Acting Air Force Federal Register Liaison Officer, Civ, DAF.

[FR Doc. 2016-00492 Filed 1-12-16; 8:45 am]

BILLING CODE 5001-10-P